DEPARTMENT OF VETERANS AFFAIRS

Veterans and Community Oversight and Engagement Board, Notice of Meeting

The Department of Veterans Affairs (VA) gives notice under the Federal Advisory Committee Act that the Veterans and Community Oversight and Engagement Board (Board) will meet on December 5-7, 2017, at 11301 Wilshire Boulevard, Building 500, Room 1281, Los Angeles, CA, from 9:00 a.m. until 4:00 p.m. (Pacific). Sessions are open to the public, except when the Committee is conducting tours of VA facilities, participating in off-site events, and participating in workgroup sessions. Tours of VA facilities are closed, to protect Veterans' privacy and personal information.

The Board is a statutory board established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On Tuesday, December 5, the Board will convene an open session from 9:00 a.m. to 4:00 p.m. The agenda will include briefings from officials at the VA and other VA entities to include: Training on Federal advisory committees and Ethics; guidance to the Board members on their roles and responsibilities. The Board will be broken into small groups to participate in a facilitated working-group activity for the balance of the day, and report out to the full committee to complete the day.

On Wednesday, December 6, the Board will convene an open session from 9:00 a.m. to 11:15 a.m. The agenda will include briefings on the West LA Leasing Act of 2016, and a detailed briefing on the Draft Master Plan (with updates). From 12:30 p.m. to 1:30 p.m., the Board will convene in a closed session as it tours the West LA Campus. The Board will reconvene an open session at 1:30 p.m. to 4:00 p.m. at which, the Board members will once again participate in Committee Facilitated discussions followed by additional facilitated subcommittee discussions. The day will conclude with any closing remarks and guidance from the Board Chair.

On Thursday, December 7, the Board will convene an open session from 9:00 a.m. to 12:00 p.m. and will begin with reports or comments from the subcommittee facilitated discussion, and discussion of topics and schedule for upcoming meetings. Additionally, time will be allocated for receiving public comments on December 7, at 9:45 a.m. Public comments shall be limited to five minutes each. Individuals wishing to make oral statements before the Board will be accommodated on a first come first serve basis. Individuals who speak are invited to submit a 1-2 page summary of their comments at the time of the meeting for inclusion in the official record. The Board will accept written comments from interested parties on issues outlined in the meeting agenda, as well as other issues affecting identifying the goals of the community and Veteran partnership; improving services and outcomes for Veterans, members of the Armed Forces, and the families of such Veterans and members; and on the implementation of the Draft Master Plan. Such comments should be sent to Eugene W. Skinner, Jr., Designated Federal Officer, Veterans Experience Office via email to Eugene.Skinner@va.gov. Note: Videotaping and/or digital recording is not permitted at the meeting unless allowed by the Designated Federal Officer.

Any member of the public seeking additional information should contact Mr. Skinner, via email at Eugene.Skinner@va.gov or by phone at (202) 631-7645.

Dated: November 13, 2017.
Jelessa M. Burney,
Federal Advisory Committee Management Officer.

[FR Doc. 2017-24878 Filed 11-15-17; 8:45 am]

BILLING CODE P